DEPARTMENT OF DEFENSE

Department of the Army; Corps of Engineers

Notice of Intent To Prepare an Environmental Impact Statement for the Missouri River Ecosystem Restoration Plan, Missouri River Basin, United States

AGENCY: Department of the Army, U.S. Army Corps of Engineers, DoD.

ACTION: Notice of intent.

SUMMARY: Pursuant to the National Environmental Policy Act of 1969 (NEPA), as amended and in furtherance of the Water Resources Development Act of 2007, the U.S. Army Corps of Engineers, Kansas City and Omaha Districts, intend to prepare the Missouri River Ecosystem Restoration Plan and Environmental Impact Statement (plan/EIS). In developing the plan, the Corps must study actions required to mitigate habitat losses of aquatic and terrestrial habitat, recover federally listed species under the Endangered Species Act and restore ecosystem functions to prevent further declines among other native species. During an extended scoping process, we will invite comment on the draft purpose and need statements for the plan/EIS.

The plan/EIS will describe a range of alternatives for achieving the purpose of the plan and assess the effects of those alternatives, including a preferred alternative, on the human environment as defined by NEPA. The goal of this planning effort is to develop and implement a single, comprehensive and integrated plan to guide the implementation of programs associated with mitigation, recovery, and restoration activities in the Missouri River Basin.

ADDRESSES: Public scoping on this plan will begin May 1, 2009. A future notice will identify how written comments and suggestions concerning the plan may be submitted. Please see http://www.mrerp.org for additional information. Please see the Scoping and Public Involvement section below.

FOR FURTHER INFORMATION CONTACT: For further information and/or questions about the proposed plan/EIS, please contact Ms. Jennifer Switzer, Project Manager, by telephone: (816) 389-3062, by mail: 601 E. 12th Street, Kansas City, MO 64106, or by e-mail: jennifer.l.switzer@usace.army.mil, or Randy Sellers, Project Manager, by telephone (402) 995-2689, by mail: 1616 Capitol Avenue, Omaha, NE 68102, or by e-mail: randy.p.sellers@usace.army.mil. For inquiries from the media, please contact the Corps, Kansas City District Public Affairs Officer (PAO), Mr. David Kolarik by telephone: (816) 389-3486, by mail: 601 E. 12th Street, Kansas City, MO 64106, or by e-mail: david.s.kolarik@usace.army.mil.

SUPPLEMENTARY INFORMATION: 1. Description of Proposed Plan. Encompassing an area of approximately 530,000 square miles and a number of governing entities, including ten states, two Canadian provinces and 28 Native American tribes, the Missouri River Basin is the second largest river basin in the United States. From its source at Three Forks, Montana the Missouri River flows east and southeast for a total of 2,341 miles before emptying into the Mississippi River, just north of St. Louis, Missouri, making it the longest river in the United States. The Missouri River passes through a variety of physiographic provinces, provides various habitats to diverse populations of flora and fauna, contains numerous cultural resources, and supports a variety of human uses. Due to its geographic scale and diverse characteristics, the management of the Missouri River falls under a variety of the U.S. Army Corps of Engineers' (the USACE) authorities and programs as well as other programs and authorities sponsored by other agencies.

The most significant human alterations to the Missouri River began as early as the late 1800s with the removal of snags in the river to improve the safety of navigation. Alterations to the river continued into the twentieth century. At the request of Congress, the USACE enhanced navigation, built dams, and regulated river flows. Simultaneously, land use changes affecting the river's floodplain occurred creating a river system very different from its pre-alteration condition. Today, the Missouri River supports less natural habitat, reduced populations of native species and communities, and reduced variability of physical processes such as flows, flooding, and sediment erosion/deposition [i.e., hydrology and geomorphology] needed to support a functioning Missouri River ecosystem.

Subsection (a) of Section 5018 of the Water Resources Development Act of 2007 (WRDA 2007) directs the Secretary of the Army, in consultation with the Missouri River Recovery Implementation Committee to conduct a study of the Missouri River and its tributaries to determine actions required to: (1) Mitigate losses of aquatic and terrestrial habitat; (2) recover federally listed species under the Endangered Species Act; and (3) restore the ecosystem to prevent further declines among other native species. The study described under Section 5018(a) is the Missouri River Ecosystem Restoration Plan and EIS. The plan/EIS will identify a single, comprehensive strategy to guide the implementation of programs associated with mitigation, recovery, and restoration activities in the Missouri River Basin. The plan/EIS will be conducted in accordance with ER 1105-2-100 and will follow a watershed approach consistent with the geographic scope and complexity of issues within the Missouri River Basin.

2. Alternatives. In compliance with the requirements of NEPA, a range of alternative strategies will be developed to address the purpose of and need for the plan while staying within the bounds of identified constraints. In developing these alternatives, multiple objectives (specific, measurable statements of the outcome or end state that restoration and management actions aim to achieve) and associated strategic actions (management, restoration and research activities functioning together to achieve an objective) will be identified and combined into several alternatives. The alternatives considered will include adaptive management strategies to allow changes and modification to the selected alternative as conditions warrant based on a described monitoring regime. Additionally, existing management objectives and related actions and activities that constitute the no action alternative will be described. Given the scope and complexity of this plan/EIS, regular and extended public scoping will occur related to the development of draft alternatives.

3. Scoping and Public Involvement Process. Multiple phases of public, agency, and tribal government scoping meetings will be conducted throughout the Missouri River Basin. The first official phase of public scoping will occur from May 2009 to December 2009 and address the plan purpose, need, and target resource conditions. This scoping period will be officially announced through the publication of an additional notice. Additional scoping phases will take place to address baseline conditions, issues, and preliminary alternatives. Dates for these scoping phases have not yet been determined. General concerns, issues, and/or needs related to the plan will also be obtained throughout all scoping phases. For more information on scoping phases, dates, meeting locations, and general information, please visit http://www.mrerp.org.

4. Significant Issues. Issues associated with the proposed plan to be given significant analysis in the plan/EIS are likely to include, but may not be limited to, native species declines, including effects of invasive species; degraded and lost habitat and prevention of future losses of habitat and resources; loss of ecosystem function including an altered hydrograph and reduced sediment load; statutory responsibilities, such as complying with the Endangered Species Act; criteria, goals and objectives and priorities for restoration; program, authority, and data gaps, including identification of new strategies for mitigation, recovery, and restoration efforts; and cumulative impacts. The plan/EIS will also include identification and analysis of the social, economic, and cultural impacts of the various alternatives, as well as important ecosystem functions.

5. Cooperating Agencies. Federal agencies, Tribes, and state governments are being invited to participate in the planning process as cooperating agencies under the NEPA.

6. Additional Review and Consultation. Additional public, scientific, and statutory review and consultation, which will be incorporated into the preparation of this EIS, will include, but shall not be limited to: Section 401 of Clean Water Act, Fish and Wildlife Coordination Act, the Magnuson-Stevens Fishery Conservation and Management Act, the National Environmental Policy Act, the National Historic Preservation Act; the Endangered Species Act, and the Clean Air Act. In addition, as directed by WRDA 2007, the development of this plan will be done in consultation with the Missouri River Recovery Implementation Committee.

7. Availability of the Draft Environmental Impact Statement. The Draft Environmental Impact Statement (DEIS) is anticipated to be available as early as November of 2013 or, no later than January of 2014. A series of public meetings will be conducted following the release of the DEIS.

Brenda S. Bowen,
Army Federal Register Liaison Officer.

[FR Doc. E9-1629 Filed 1-23-09; 8:45 am]

BILLING CODE 3720-58-P